DEPARTMENT OF THE INTERIOR

Bureau of Land Management

Notice of Availability of the Andrews Management Unit/Steens Mountain Cooperative Management and Protection Area Proposed Resource Management Plan and Final Environmental Impact Statement and the Steens Mountain Wilderness and Wild and Scenic Rivers Plan

AGENCY: Bureau of Land Management, Interior.

ACTION: Notice of availability.

SUMMARY: In accordance with the Federal Land Policy and Management Act (FLPMA) of 1976, the National Environmental Policy Act (NEPA) of 1969, and the Steens Mountain Cooperative Management and Protection Act of 2000 (Steens Act), the Bureau of Land Management (BLM) has prepared a Proposed Resource Management Plan (PRMP) and Final Environmental Impact Statement (FEIS) for the Andrews Management Unit (AMU)/Steens Mountain Cooperative Management and Protection Area (CMPA) and has also prepared the Steens Mountain Wilderness and Wild and Scenic Rivers Plan.

DATES: BLM Planning Regulations (43 CFR 1610.5-2) state that any person who participated in the planning process, and has an interest that may be adversely affected, may protest. The protest must be filed within 30 days of the date that the Environmental Protection Agency publishes this notice in the Federal Register. Instructions for filing of protests are described in the “Dear Interested Party” letter of the AMU/Steens Mountain CMPA PRMP/FEIS and included in the SUPPLEMENTARY INFORMATION section of this Notice.

Written comments on the Steens Mountain Wilderness and Wild and Scenic Rivers Plan will be accepted for 30 days following publication of the Environmental Protection Agency's Notice of Availability (NOA) for the PRMP/FEIS in the Federal Register.

FOR FURTHER INFORMATION CONTACT: Gary Foulkes, Project Manager, Bureau of Land Management, 28910 Highway 20 West, Hines, Oregon, 97738, telephone (541-573-4400), fax (541-573-4411), or e-mail (OR_Burns_RMP@or.blm.gov).

SUPPLEMENTARY INFORMATION: This planning activity encompasses approximately 1,649,470 acres of public land consisting of the 1,221,314-acre Andrews Management Unit (public land in the Andrews Resource Area outside of the CMPA) and public land in the 428,156-acre CMPA established by the Steens Act. The CMPA includes the 170,084-acre Steens Mountain Wilderness and 105 miles of Wild and Scenic Rivers. These lands are managed by the Andrews Resource Area, Burns District, and are located primarily in Harney County in southeastern Oregon. In addition, 53,436 acres of the Three Rivers Resource Area, falling within the CMPA, are also included in this planning effort. The BLM has and will continue to work closely with all interested parties to identify management decisions that are best suited to the needs of the public. Final decisions will supercede the Andrews Management Framework Plan (1982), subsequent amendments, and the Donner Und Blitzen Wild and Scenic Rivers Plan (1993), and will amend the Three Rivers RMP for those lands within the CMPA while providing direction for management of these public lands for approximately 20 years.

This land use plan focuses on the principles of multiple use management and sustained yield as prescribed by Section 202 of the FLPMA. The PRMP/FEIS considers and analyzes five alternatives. These alternatives were developed based on internal BLM formulation and extensive public input following scoping (February 2002), review of the Summary of the Analysis of the Management Situation (April 2002), newsletter (July 2002), review and comment on the Draft RMP/EIS (October 2003-January 2004), and numerous meetings with local governments, Burns Paiute Tribe, cooperating agencies, Southeast Oregon Resource Advisory Council, and the Steens Mountain Advisory Council (SMAC).

The SMAC consists of 12 members representing various interests and one nonvoting member who is a liaison to the Governor of Oregon. The SMAC was established by the Secretary of the Interior as mandated by the Steens Act to advise the Secretary in preparation and implementation of a management plan for the CMPA including the Steens Mountain Wilderness. The SMAC has held 18 public meetings in various locations since its creation, has taken an in-depth look at management of the CMPA, and has provided specific advice on the Steens Mountain Wilderness and Wild and Scenic Rivers Plan as well as the RMP.

The alternatives detailed in the PRMP/FEIS provide for a wide array of land use allocations and management direction as well as variable levels of resource protection, commodity production, and authorized land and resource uses. Alternative D, the BLM preferred alternative, (as modified by public comment on the Draft RMP/EIS) is now the Proposed RMP providing a balance of resource uses, such as livestock grazing and various forms of recreation, while protecting wilderness characteristics, Wild and Scenic Rivers and Areas of Critical Environmental Concern. The Proposed Plan will help BLM achieve the purpose of the CMPA which is to conserve, protect, and manage the long-term ecological integrity of the area. Approved RMPs/Records of Decision (one for the CMPA and one for the AMU) will be made available for the public following resolution of any protests.

The proposed alternatives for the Steens Mountain Wilderness and Wild and Scenic Rivers plan were developed during the RMP process and have had the same level of public involvement. The Steens Mountain Wilderness and Wild and Scenic Rivers plan will be a stand-alone implementation plan and an Appendix to the PRMP/FEIS.

Copies of the AMU/Steens Mountain CMPA PRMP/FEIS have been sent to affected Federal, State, and Local Government agencies and to interested parties. The PRMP/FEIS is available for public inspection at the Burns District Office in Hines, Oregon, during regular business hours (7:45 a.m. to 4:30 p.m., Monday through Friday, except holidays). Interested persons may also review the PRMP/FEIS on the internet at http://www.or.blm.gov/Burns. Comments on the Draft RMP/EIS received from the public and internal BLM review comments were incorporated into the proposed plan where appropriate. Public comments resulted in the addition of clarifying text, but did not significantly change proposed land use decisions.

Instructions for filing a protest with the Director of the BLM regarding the PRMP/FEIS may be found at 43 CFR 1610.5. A protest may only raise those issues that were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112 and e-mails to Brenda_Hudgens-Williams@blm.gov. Please direct the follow-up letter to the appropriate address provided below. To be considered complete, your protest must contain (at a minimum) the following information:

(1) Name, mailing address, telephone number and the affected interest of the person filing the protest(s).

(2) A statement of the part or parts of the proposed plan being protested. To the extent possible, reference specific pages, paragraphs, and sections of the document.

(3) A copy of all your documents addressing the issue or issues which were discussed with the BLM for the record.

(4) A concise statement explaining why the proposed decision is believed to be incorrect. This is a critical part of your protest. Document all relevant facts, as much as possible. A protest merely expressing disagreement with the State Director's proposed decision without providing any supporting data will not be considered a valid protest.

All protests must be in writing and mailed to the following address: Regular Mail, Director, WO-210/LS-1075, Bureau of Land Management, Attn: Brenda Hudgens-Williams, Department of the Interior, P.O. Box 66538, Washington DC, 20240.

Overnight Mail, Director, WO-210/LS-1075, Bureau of Land Management, Attn: Brenda Hudgens-Williams, Department of the Interior, 1620 L Street NW., Suite 1075, Washington, DC 20036.

To be considered timely, your protest must be postmarked no later than the last day of the protest period. Though not a requirement, we suggest you send your protest by certified mail, return receipt requested. You are also encouraged, but not required, to forward a copy of your protest to the Project Manager at the address listed below. This may allow us to resolve the protest through clarification of intent or alternative dispute resolution methods.

The Director will promptly render a decision on the protest. This decision will be in writing and will be sent to the protesting party by certified mail, return receipt requested. The decision of the Director shall be the final decision of the Department of the Interior.

Comments on the Steens Mountain Wilderness and Wild and Scenic Rivers Plan should be mailed to Gary Foulkes, Project Manager, Bureau of Land Management, 28910 Highway 20 West, Hines, Oregon, 97738, faxed to 541-573-4411, or e-mailed to OR_Burns_RMP@or.blm.gov.

Please note that comments, including names and street addresses, are available for public review and/or release under the Freedom of Information Act (FOIA). Individual respondents may request confidentiality. Respondents who wish to withhold name and/or street address from public review or from disclosure under FOIA, must state this prominently at the beginning of the written comment. Such request will be honored to the extent allowed by law. All submissions from organizations or businesses, and from individuals identifying themselves as representatives or official organizations or business, will be made available for public inspection in their entirety.

Elaine M. Brong,
State Director, Oregon/Washington.

[FR Doc. 04-18256 Filed 8-12-04; 8:45 am]

BILLING CODE 4310-AG-P